DEPARTMENT OF DEFENSE

Department of the Navy

[Docket ID: USN-2025-HQ-0070]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by October 27, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Marine Corps Officer Candidate Program Suitability Forms; NAVMC Forms 10469 and 10064; OMB Control Number 0712-0002.

Type of Request: Revision.

NAVMC 10469—Academic Certification for Marine Corps Officer Candidate Programs

Number of Respondents: 3,500.

Responses per Respondent: 1.

Annual Responses: 3,500.

Average Burden per Response: 15 minutes.

Annual Burden Hours: 875.

NAVMC 10064—Personal Information Questionnaire

Number of Respondents: 3,500.

Responses per Respondent: 1.

Annual Responses: 3,500.

Average Burden per Response: 15 minutes.

Annual Burden Hours: 875.

Total

Number of Respondents: 7,000.

Annual Responses: 7,000.

Annual Burden Hours: 1,750.

Needs and Uses: This information collection is necessary for the United States Marine Corps to verify a potential officer candidate's suitability for service. This information collection request consists of two forms used in this process: NAVMC Form 10469, “Academic Certification for Marine Corps Officer Candidate Program,” and NAVMC Form 10064, “Personal Information Questionnaire (PIQ).” The NAVMC Form 10469 collects information about the candidate's educational background, and the NAVMC Form 10064 is used to evaluate the candidate's moral character. To accomplish officer procurement requirements prescribed in 10 United States Code (U.S.C.) 8042, 10 U.S.C. Chapter 32, the Marine Corps Recruiting Command (MCRC) Officer Commissioning Manual (MCRC Order 1100.02), and Marine Corps Order 1130.76D, the Marine Corps Officer Selection Officer (OSO) must prospect, screen, and contract qualified individuals. The NAVMC 10469 and 10064 forms are a vital part of this process.

The NAVMC Form 10469 is used to verify a potential officer candidate's academic background and standardized test scores. During their initial interview with an OSO, applicants provide information about the colleges or universities they have attended. The OSO emails the NAVMC Form 10469 to the Registrar's office of the institutions identified by the applicant. The school Registrar's office completes the form with information regarding the student's degree plan, major, credit hours, and grades. The respondent will then digitally sign the form and return it to the OSO via email. It is then uploaded into the potential officer's application via the MCRC's Automated Commissioning Package database.

The NAVMC 10064 is completed by the five-character references provided by potential applicants during the Marine Corps Officer Candidate application process. The OSO will contact the references and provide the PIQ via email for completion. Once a reference has completed the form, they will sign it electronically and return it to the OSO via email. In limited cases, the respondent may request to hand deliver their response to the OSO or receive/return the PIQ via the U.S. Postal Service. A prepaid envelope is provided to the respondent if required. The PIQ is used by the OSO and the selection board to assess the personal and moral character of an applicant and as a tool to better assess the possibility of them becoming a Marine Corps Officer.

Affected Public: Individuals or households.

Frequency: On occasion.

Respondent's Obligation: Voluntary.

DoD Clearance Officer: Mr. Reginald Lucas.

Dated: September 24, 2025.
Stephanie J. Bost,
Alternate OSD Federal Register Liaison Officer, Department of Defense.

[FR Doc. 2025-18725 Filed 9-25-25; 8:45 am]

BILLING CODE 6001-FR-P